INTERNATIONAL TRADE COMMISSION

[Investigation Nos. 701-TA-478 and 731-TA-1182 (Final)]

Certain Steel Wheels From China

Determinations

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is not materially injured or threatened with material injury, and the establishment of an industry in the United States is not materially retarded, by reason of imports of certain steel wheels from China, provided for in subheading 8708.70 of the Harmonized Tariff Schedule of the United States, that the U.S. Department of Commerce has determined are subsidized and sold in the United States at less than fair value (``LTFV'').

¹ The record is defined in sec. 207.2(f) of the Commission's Rules of Practice and Procedure (19 CFR 207.2(f)).

Background

The Commission instituted these investigations effective March 30, 2011, following receipt of a petition filed with the Commission and Commerce by Accuride Corp. (Evansville, IN) and Hayes Lemmerz International, Inc. (Northville, MI). The final phase of the investigations was scheduled by the Commission following notification of preliminary determinations by Commerce that imports of certain steel wheels from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 23, 2011 (76 FR 72441). The hearing was held in Washington, DC, on March 8, 2012, and all persons who requested the opportunity were permitted to appear in person or by counsel.

The Commission transmitted its determinations in these investigations to the Secretary of Commerce on May 2, 2012. The views of the Commission are contained in USITC Publication 4319 (April 2012), entitled Certain Steel Wheels from China: Investigation Nos. 701-TA-478 and 731-TA-1182 (Final).

By order of the Commission.
Issued: May 3, 2012.
James R. Holbein,
Secretary to the Commission.

[FR Doc. 2012-11102 Filed 5-8-12; 8:45 am]

BILLING CODE 7020-02-P